DEPARTMENT OF TRANSPORTATION

Federal Highway Administration

Environmental Impact Statement: Los Angeles County, CA

AGENCY: Federal Highway Administration (FHWA), DOT.

ACTION: Notice of intent.

SUMMARY: The FHWA, on behalf of the California Department of Transportation (Caltrans), is issuing this notice to advise the public that a Draft Environmental Impact Statement will be prepared for a proposed highway project in Los Angeles County, California.

DATES: Public Scoping Meetings will be held at the following locations:

San Gabriel, March 15, 2011, 6 p.m. to 8 p.m.

Alhambra, March 16, 2011, 6 p.m. to 8 p.m.

Glendale, March 22, 2011, 6 p.m. to 8 p.m.

South Pasadena, March 23, 2011, 6 p.m. to 8 p.m.

El Sereno, March 29, 2011, 6 p.m. to 8 p.m.

Pasadena, March 30, 2011, 6 p.m. to 8 p.m.

An online Virtual Scoping Meeting will be held on March 21, 2011. Register to participate at metro.net/sr710conversations and click the “Participate from Home” tab. (It will begin live at 6 p.m. and continue on demand through April 14, 2011).

ADDRESSES: San Gabriel—Jefferson Middle School, 1372 East Las Tunas Drive, San Gabriel, CA 91776.

Alhambra—Civic Center Library, 101 S. First Street, Alhambra, CA 91801.

Glendale—Glendale Community College, (Student Center RM 212), 1500 North Verdugo Road, Glendale, CA 91208.

South Pasadena—South Pasadena High School, (Auditorium), 1401 Fremont Ave., South Pasadena, CA 91030.

El Sereno—LA Christian Presbyterian Church, (Gymnasium), 2241 N. Eastern Ave., Los Angeles, CA 90032.

Pasadena—Lake Avenue Church, (4th floor above Harris Hall), 393 N. Lake Ave., Pasadena, CA 91101.

FOR FURTHER INFORMATION CONTACT: Ronald Kosinski, Deputy District Director, California Department of Transportation, District 7, Division of Environmental Planning, 100 South Main Street, Mail Stop 16A, Los Angeles, CA 90012.

SUPPLEMENTARY INFORMATION: Effective July 1, 2007, the Federal Highway Administration (FHWA) assigned, and the California Department of Transportation (Caltrans) assumed, environmental responsibilities for this project pursuant to 23 U.S.C. 327. Caltrans as the delegated National Environmental Policy Act (NEPA) agency will prepare a Draft Environmental Impact Statement on a proposal for the State Route 710 Gap North Closure project in Los Angeles County, California. The proposed project, depending on the results of a thorough environmental analysis of all possible transportation improvements during the NEPA/CEQA process, may include, but not be limited to: surface and subsurface highway/freeway construction, heavy rail and bus/light rail systems, local street upgrades, traffic management systems and a no build alternative. There currently is a gap in the I-710 corridor, for a distance of approximately 4.5 miles (7.2 km), which extends between Valley Boulevard to the south and Del Mar Boulevard to the north. As originally identified in the April 13, 1998 Record of Decision for the Meridian Variation alignment, this gap contributes to congestion on local streets and the regional freeway system. The objective of this project is to relieve congestion and improve mobility within the study area.

It is anticipated that the proposed project may require the following federal approvals and permits: a Biological Opinion from the United States Fish and Wildlife Service, approval of a PM10 and PM2.5 Hot Spot Analysis by the Conformity Working Group for transportation conformity determination under the Clean Air Act. Section 404 nationwide permit from the U.S. Army Corps of Engineers, Section 401 Water Quality Certification from the California Regional Water Quality Control Board, Section 1601 Streambed Alteration Agreement from the California Department of Fish and Game, and encroachment permits from the various cities in which project construction would occur.

Letters describing the proposed action and soliciting comments will be sent to appropriate Federal, State, Participating Agencies, Tribal Governments and local agencies, and to private organizations and citizens who have previously expressed or are known to have interest in this proposal. The public scoping process will officially begin in March 2011. Public scoping meeting(s) will be held in San Gabriel, Alhambra, Glendale, South Pasadena, Los Angeles, El Sereno, and Pasadena in March 2011. In addition, one online Virtual Scoping Meeting will be held on March 21, 2011. (It will begin live at 6 p.m. and continue on demand through April 14, 2011). Further, a public hearing will be held once the Draft Environmental Impact Statement is completed. Public notice will be given of the time and place of the meeting and hearing. The Draft Environmental Impact Statement will be available for public and agency review and comment prior to the public hearing to ensure that the full range of issues related to this proposed action are addressed and all significant issues identified, comments, and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Issued on: March 3, 2011.
Shawn E. Oliver,
Federal Highway Administration, Sacramento, California.

[FR Doc. 2011-5407 Filed 3-8-11; 8:45 am]

BILLING CODE 4910-22-P